DEPARTMENT OF LABOR

Employment and Training Administration

[TA-W-54,751]

Trilux Technologies, Inc., Winston-Salem, NC; Notice of Termination of Investigation

Pursuant to section 221 of the Trade Act of 1974, as amended, an investigation was initiated on April 20, 2004 in response to a worker petition filed on behalf of workers of Trilux Technologies, Inc., Winston-Salem, North Carolina.

The petition has been deemed invalid because it was not signed by three workers. Consequently, the investigation has been terminated.

Signed at Washington, DC this 22nd day of April 2004.
Linda G. Poole,
Certifying Officer, Division of Trade Adjustment Assistance.

[FR Doc. E4-1049 Filed 5-7-04; 8:45 am]

BILLING CODE 4510-13-P